DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held Wednesday and Thursday, March 29 and 30, 2017. The meeting on both days will be conducted at the Readjustment Counseling Service (RCS) Headquarters Offices, located at 1717 H Street NW., Washington, DC 20006, in Conference Room 430C. The agenda for these two days will begin at 8:00 a.m. and end at 4:30 p.m. The meeting on both days is open to the public.

The purpose of the Committee is to review the post-war readjustment needs of combat-theater Veterans and to evaluate the availability, effectiveness and coordination of VA programs required to meet Veterans' readjustment service needs.

The agenda for March 29 will include briefings from the Chief Readjustment Counseling Officer on the current activities of the Readjustment Counseling Service (RCS) Vet Centers to include the full scope of outreach and readjustment counseling services provided to combat-theater Veterans, Service members and their families. The briefing will also focus on the status of the reorganization of RCS and its Vet Centers system-wide in conjunction with the parallel transformation of the Veterans Health Administration (VHA) Veterans Integrated Service Network (VISN) transformation.

On March 30, the Committee members will receive briefings from VHA's mental health leadership on the mental health service needs of combat-theater Veterans and on the coordination of Vet Center services with VHA mental health services to better service the combat-theater Veteran population.

The agenda for both days will also include time for Committee strategic planning primarily focused on its annual operations plans for 2017/18, its 2017 field meeting agenda, and the target perspectives for its 19th annual report.

No time will be allocated at this meeting for receiving oral presentations from the public. However, members of the public may direct written questions or submit prepared statements for review by the Committee before the meeting to Mr. Charles M. Flora, M.S.W., Designated Federal Officer, Readjustment Counseling Service, Department of Veterans Affairs, 810 Vermont Avenue NW., Washington, DC 20420. Because the meeting will be in a Government building, please provide valid photo identification for check-in. Please allow 15 minutes before the meeting for the check-in process. If you plan to attend or have questions concerning the meeting, please contact Mr. Flora at (202) 461-6525 or by email at charles.flora@va.gov.

Dated: February 9, 2017.
LaTonya L. Small,
Advisory Committee Management Office.

[FR Doc. 2017-02982 Filed 2-14-17; 8:45 am]

BILLING CODE P